ENVIRONMENTAL PROTECTION AGENCY

[FRL-12113-01-OA]

Local Government Advisory Committee's (LGAC) Small Communities Advisory Subcommittee (SCAS) Meetings

AGENCY: Environmental Protection Agency (EPA).

ACTION: Notification of public meetings.

SUMMARY: Pursuant to the Federal Advisory Committee Act (FACA), EPA herby provides notice of meetings for the Local Government Advisory Committee's (LGAC) Small Communities Advisory Subcommittee (SCAS) on the dates and times described below. These meeting will be open to the public. For information on public attendance and participation, please see the registration information under SUPPLEMENTARY INFORMATION.

DATES: The SCAS will have a series of in person and virtual meetings throughout 2024. SCAS meeting dates are as followed: August 2nd 11:00 a.m.-12:30 p.m., September 6th 11:00 a.m.-12:30 p.m., September 26th (in person and virtual) 8:30 a.m.-10:00 a.m., October 25th 11:00 a.m.-12:30 p.m., November 22nd 11:00 a.m.-12:30 p.m., and December 20th 11:00 a.m.-12:30 p.m. All times are Eastern Standard Time Zone.

FOR FURTHER INFORMATION CONTACT:

Lynzi Barnes, SCAS Designated Federal Officer, at barnes.edlynzia@epa.gov or 773-638-9158.

Information on Accessibility: For information on access or services for individuals requiring accessibility accommodations, please contact Lynzi Barnes, SCAS Designated Federal Officer, at barnes.edlynzia@epa.gov or 773-638-9158. To request accommodation, please do so five (5) business days prior to meeting dates, to give EPA as much time as possible to process your request.

SUPPLEMENTARY INFORMATION:

Content

The SCAS will discuss several priority issues at EPA and its implications on smaller towns. Topics will range from climate communication, environmental justice, water issues, and more. Agendas and meeting materials will be posted online (link below) one week prior to the meeting.

Registration

The meetings will be held virtually and in person on September 26th. Members of the public who wish to participate should register by contacting the Designated Federal Officer (DFO) at Barnes.edlynzia@epa.gov.

Online participation will be via Microsoft Teams. Once available, the agenda and other supportive meeting materials will be available online at https://www.epa.gov/ocir/small-community-advisory-subcommittee-scas and will be emailed to all registered. In the event of cancellation for unforeseen circumstances, please contact the DFO or check the website above for reschedule information.

Edlynzia Barnes,
Designated Federal Officer, Office of Congressional and Intergovernmental Relations.

[FR Doc. 2024-15855 Filed 7-17-24; 8:45 am]

BILLING CODE 6560-50-P